INTERNATIONAL TRADE COMMISSION

[Investigation Nos. 701-TA-479 and 731-TA-1183-1184 (Preliminary)]

Galvanized Steel Wire From China and Mexico

AGENCY: United States International Trade Commission.

ACTION: Revised schedule for the subject antidumping and countervailing duty investigations.

DATES: Effective Date: April 13, 2011.

FOR FURTHER INFORMATION CONTACT: Angela M.W. Newell (202-708-5409), Office of Investigations, U.S. International Trade Commission, 500 E Street, SW., Washington, DC 20436. Hearing-impaired persons can obtain information on this matter by contacting the Commission=s TDD terminal on 202-205-1810. Persons with mobility impairments who will need special assistance in gaining access to the Commission should contact the Office of the Secretary at 202-205-2000. General information concerning the Commission may also be obtained by accessing its Internet server (http://www.usitc.gov). The public record for these investigations may be viewed on the Commission=s electronic docket (EDIS) at http://edis.usitc.gov.

SUPPLEMENTARY INFORMATION: Effective March 31, 2011, the Commission established a schedule for the conduct of these investigations (75 FR 877, April 7, 2011). Due to scheduling conflicts, the Commission is issuing a revised schedule.

Specifically, the Commission will hold its conference on April 21, 2011, beginning at 1 p.m. Briefs are due on April 27, 2011, at 12 noon.

For further information concerning the investigations see the Commission=s notice cited above and the Commission's Rules of Practice and Procedure, part 201, subparts A through E (19 CFR part 201), and part 207, subparts A and C (19 CFR part 207).

Authority: The investigations are being conducted under authority of title VII of the Tariff Act of 1930; this notice is published pursuant to section 207.21 of the Commission's rules.

Issued: April 13, 2011.
By order of the Commission.
James R. Holbein,
Acting Secretary to the Commission.

[FR Doc. 2011-9383 Filed 4-18-11; 8:45 am]

BILLING CODE P